DEPARTMENT OF HEALTH AND HUMAN SERVICES

National Institutes of Health

National Heart, Lung, and Blood Institute; Amended Notice of Meeting

Notice is hereby given of a change in the meeting of the National Heart, Lung, and Blood Advisory Council, April 9, 2026, 09:00 a.m. to April 10, 2026, 05:00 p.m., National Institute of Health, Rockledge II, Bethesda, MD 20892 which was published in the Federal Register on January 22, 2026, 91 FRN 2787.

The National Heart, Lung, and Blood Institute, Sleep Disorders Research Advisory Board meeting is being amended to add the registration links for each meeting date. Registration is required to attend the open portion of this meeting. To register for Day 1 April 9, 2026: 1:00 p.m. to 5:00 p.m. use the following link: https://events.gcc.teams.microsoft.com/event/e4352ca7-12c8-47e2-9440-e1d675300cbc@14b77578-9773-42d5-8507-251ca2dc2b06. To register for Day 2 April 10, 2026: 1:00 p.m. to 5:00 p.m. use the following link: https://events.gcc.teams.microsoft.com/event/65acb0f8-d2c3-44c1-9351-e9d359e3bd0d@14b77578-9773-42d5-8507-251ca2dc2b06.

The meeting is open to the public.

Dated: January 28, 2026.
Denise M. Santeufemio,
Supervisory Program Analyst, Office of Federal Advisory Committee Policy.

[FR Doc. 2026-01881 Filed 1-29-26; 8:45 am]

BILLING CODE 4140-01-P